DEPARTMENT OF COMMERCE

International Trade Administration

[A-580-903, A-523-813]

Polyethylene Terephthalate Sheet From the Republic of Korea and the Sultanate of Oman: Antidumping Duty Orders

AGENCY: Enforcement and Compliance, International Trade Administration, Department of Commerce.

SUMMARY: Based on affirmative final determinations by the Department of Commerce (Commerce) and the International Trade Commission (ITC), Commerce is issuing antidumping duty orders on polyethylene terephthalate sheet (PET sheet) from the Republic of Korea (Korea) and the Sultanate of Oman (Oman).

DATES: Applicable September 10, 2020.

FOR FURTHER INFORMATION CONTACT: Katherine Sliney at (202) 482-2437 (Korea) or Matthew Renkey at (202) 482-2312 (Oman); AD/CVD Operations, Offices III and V, respectively, Enforcement and Compliance, International Trade Administration, U.S. Department of Commerce, 1401 Constitution Avenue NW, Washington, DC 20230.

SUPPLEMENTARY INFORMATION:

Background

In accordance with sections 735(d) and 777(i)(1) of the Tariff Act of 1930, as amended (the Act), and 19 CFR 351.210(c), on July 22, 2020, Commerce published its affirmative final determinations in the less-than-fair-value (LTFV) investigations of PET sheet from Korea and Oman.¹ On September 3, 2020, the ITC notified Commerce of its final affirmative determinations that an industry in the United States is materially injured within the meaning of section 735(b)(1)(A)(i) of the Act, by reason of the LTFV imports of PET sheet from Korea and Oman.²

¹ See Polyethylene Terephthalate Sheet from the Republic of Korea: Final Determination of Sales at Less Than Fair Value, 85 FR 44276 (July 22, 2020); and Polyethylene Terephthalate Sheet from the Sultanate of Oman: Final Determination of Sales at Less Than Fair Value, 85 FR 44278 (July 22, 2020).

² See ITC's Letter, “ITC's Notification of ITC Final Determinations,” dated September 3, 2020 (ITC Notification Letter).

Scope of the Orders

The merchandise covered by these orders is PET sheet from Korea and Oman. For a complete description of the scope of the Orders, see the Appendix to this notice.

Antidumping Duty Orders

On September 3, 2020, in accordance with sections 735(b)(1)(A)(i) and 735(d) of the Act, the ITC notified Commerce of its final determinations that an industry in the United States is materially injured by reason of imports of PET sheet from Korea and Oman.³ Therefore, Commerce is issuing these antidumping duty orders in accordance with sections 735(c)(2) and 736 of the Act. Because the ITC determined that imports of PET sheet from Korea and Oman are materially injuring a U.S. industry, unliquidated entries of such merchandise from Korea and Oman, which are entered or withdrawn from warehouse for consumption, are subject to the assessment of antidumping duties.

³ See ITC Notification Letter.

As a result of the ITC's final affirmative determinations, in accordance with section 736(a)(1) of the Act, Commerce will direct U.S. Customs and Border Protection (CBP) to assess, upon further instruction by Commerce, antidumping duties equal to the amount by which the normal value of the merchandise exceeds the export price or constructed export price of the merchandise, for all relevant entries of PET sheet from Korea and Oman. Antidumping duties will be assessed on unliquidated entries of PET sheet from Korea and Oman entered, or withdrawn from warehouse, for consumption on or after March 3, 2020, the date of publication of the Preliminary Determinations,⁴ but will not include entries occurring after the expiration of the provisional measures period and before publication in the Federal Register of the ITC's injury determination, as further described below.

⁴ See Polyethylene Terephthalate Sheet from the Republic of Korea: Preliminary Affirmative Determination of Sales at Less Than Fair Value, Postponement of Final Decision, and Extension of Provisional Measures, 85 FR 12500 (March 3, 2020); and Polyethylene Terephthalate Sheet from the Sultanate of Oman: Preliminary Affirmative Determination of Sales at Less Than Fair Value, Postponement of Final Decision, and Extension of Provisional Measures, 85 FR 12513 (March 3, 2020) (collectively, Preliminary Determinations).

Continuation of Suspension of Liquidation

In accordance with section 736 of the Act, Commerce will instruct CBP to continue to suspend liquidation of PET sheet from Korea and Oman as described in the Appendix to this notice which are entered, or withdrawn from warehouse, for consumption on or after the date of publication of the ITC's notice of final determination in the Federal Register. These instructions suspending liquidation will remain in effect until further notice.

We will also instruct CBP to require cash deposits equal to the amounts as indicated below. Accordingly, effective on the date of publication of the ITC's final affirmative injury determination, CBP will require, at the same time as importers would normally deposit estimated duties on this subject merchandise, a cash deposit equal to the cash deposit rates listed below.⁵ The all-others rate for each country applies to all producers or exporters not specifically listed.

⁵ See section 736(a)(3) of the Act.

Estimated Weighted-Average Dumping Margins

The estimated weighted-average dumping margins for each antidumping duty order are as follows:

Exporter/producer | Weighted-average dumping margin (percent)
Korea:
Jin Young Chemical Co., Ltd. (JYC) and Jinyoung Co., Ltd. (JYL) (collectively, the Jin Young Group) | 7.19
Plastech Co., Ltd | 52.01
Chungdang Co | 52.01
K Stout Co | 52.01
Kemicolor Corp | 52.01
KP Tech Ltd | 52.01
Moojin Che | 52.01
OKS Poly | 52.01
Puyong Industry Co | 52.01
Samjin Plastic Co | 52.01
Sangil Corp | 52.01
SK Chemicals | 52.01
Tae Kwang New Tech Co., Ltd | 52.01
Unidesign Co | 52.01
All Others | 7.19
Oman:
OCTAL SAOC-FZC (OCTAL) | 4.74
All Others | 4.74

Provisional Measures

Section 733(d) of the Act states that suspension of liquidation pursuant to an affirmative preliminary determination may not remain in effect for more than four months, except that Commerce may extend the four-month period to no more than six months at the request of the exporters representing a significant proportion of exports of the subject merchandise. At the request of exporters that account for a significant proportion of PET sheet from Korea and Oman, we extended the four-month period to six months in the Preliminary Determinations, published on March 3, 2020. Therefore, the extended period, beginning on the date of the publication of the preliminary determinations, ended on August 29, 2020. Pursuant to section 737(b) of the Act, the collection of cash deposits at the rates listed above will begin on the date of publication of the ITC's final injury determination.

Therefore, in accordance with section 733(d) of the Act and our practice, we will instruct CBP to terminate the suspension of liquidation and to liquidate, without regard to antidumping duties, unliquidated entries of PET sheet from Korea and Oman entered, or withdrawn from warehouse, for consumption, on or after August 30, 2020, the first day provisional measures are no longer in effect, until and through the day preceding the date of publication of the ITC's final injury determination in the Federal Register. Suspension of liquidation will resume on the date of publication of the ITC's final determination in the Federal Register.

Notification to Interested Parties

This notice constitutes the antidumping duty orders with respect to PET sheet from Korea and Oman pursuant to section 736(a) of the Act. Interested parties can find a list of antidumping duty orders currently in effect at http://enforcement.trade.gov/stats/iastats1.html.

These orders are published in accordance with section 736(a) of the Act and 19 CFR 351.211(b).

Dated: September 3, 2020.
Jeffrey I. Kessler,
Assistant Secretary for Enforcement and Compliance.

Appendix I

Scope of the Orders

The merchandise covered by these orders is raw, pretreated, or primed polyethylene terephthalate sheet, whether extruded or coextruded, in nominal thicknesses of equal to or greater than 7 mil (0.007 inches or 177.8 µm) and not exceeding 45 mil (0.045 inches or 1143 µm) (PET sheet). The scope includes all PET sheet whether made from prime (virgin) inputs or recycled inputs, as well as any blends thereof. The scope includes all PET sheet meeting the above specifications regardless of width, color, surface treatment, coating, lamination, or other surface finish.

The merchandise subject to these orders is properly classified under statistical reporting number 3920.62.0090 of the Harmonized Tariff Schedule of the United States (HTSUS). Although the HTSUS statistical reporting number is provided for convenience and customs purposes, the written description of the merchandise is dispositive.

[FR Doc. 2020-20011 Filed 9-9-20; 8:45 am]

BILLING CODE 3510-DS-P